DEPARTMENT OF COMMERCE

National Oceanic and Atmospheric Administration

[I.D.073100C]

Marine Mammals; File No. 473-1433-01

AGENCY: National Marine Fisheries Service (NMFS), National Oceanic and Atmospheric Administration (NOAA), Commerce.

ACTION: Receipt of application for amendment.

SUMMARY: Notice is hereby given that Jan Straley, Assistant Professor of Marine Biology, University of Southeast Alaska, 1332 Seward Avenue, Sitka, Alaska 99835-9498, has requested an amendment to Scientific Research Permit No. 473-1433-01.

DATES: Written or telefaxed comments must be received on or before September 14, 2000.

ADDRESSES: The amendment request and related documents are available for review upon written request or by appointment in the following office(s):

Permits and Documentation Division, Office of Protected Resources, NMFS, 1315 East-West Highway, Room 13705, Silver Spring, MD 20910 (301/713-2289);

Regional Administrator, Alaska Region, NMFS, 709 West 9th Street, 4th Floor, Juneau, Alaska 99801, (907/586-7221).

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at 301/713-0376, provided the facsimile is confirmed by hard copy submitted by mail and postmarked no later than the closing date of the comment period. Please note that comments will not be accepted by e-mail or other electronic media.

FOR FURTHER INFORMATION CONTACT: Jill Lewandowski or Jeannie Drevenak, 301/713-2289.

SUPPLEMENTARY INFORMATION: The subject amendment to Permit No. 473-1433-00, issued on December 12, 1997 (62 FR 67052) is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

Permit No. 473-1433-00 authorizes the applicant to conduct photo-identification research on humpback whales (Megaptera novaeangliae) in Alaskan waters. The objective of the proposed research is to develop long-term sighting histories of individual humpback whales to assess stock structure, life history parameters, feeding behaviors, social behaviors of feeding populations, and population estimates. During the course of research, killer whales (Orcinus orca), minke whales (Balaenoptera acutorostrata), gray whales (Eschrichtius robustus), and fin whales (B. physalus) may also be opportunistically photo-identified. The authority of this permit expires on November 30, 2002.

The permit holder is now requesting authorization to photo-id (100 annual takes) and critter cam tag (25 annual takes) sperm whales (Physeter catodon) in Alaskan waters.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 9, 2000.
Ann D. Terbush,
Chief, Permits and Documentation Division, Office of Protected Resources, National Marine Fisheries Service.

[FR Doc. 00-20622 Filed 8-14-00; 8:45 am]

BILLING CODE 3510-22-F